NUCLEAR REGULATORY COMMISSION

[Docket No. 40-9091-MLA; ASLBP No. 12-915-01-MLA-BD01]

Atomic Safety and Licensing Board Panel: Weapons at Atomic Safety and Licensing Board Proceeding; Strata Energy, Inc.

Atomic Safety and Licensing Board Panel

Before the Licensing Board: G. Paul Bollwerk, III, Chairman, Dr. Richard F. Cole, Dr. Craig M. White.

In the Matter of Strata Energy, Inc. (Ross In Situ Recovery Uranium Project).

Notice (Regarding Weapons at Atomic Safety and Licensing Board Proceeding September 16, 2014.

Notice is hereby given that the rules and policies regarding the possession of weapons in United States Courthouses and United States Federal Buildings in the State of Wyoming shall apply to all proceedings conducted in governmental or private facilities in Wyoming by the Atomic Safety and Licensing Board of the U.S. Nuclear Regulatory Commission.

Accordingly, no person other than federal law enforcement personnel or law enforcement personnel from the Campbell or Crook County Sheriff's Departments, the Gillette or Sundance Police Departments, or any other authorized Wyoming state or local law enforcement organization, while performing official duties, shall wear or otherwise carry a firearm, edged weapon, impact weapon, electronic control device, chemical weapon, ammunition, or other dangerous weapon into the limited appearance session scheduled at the Crook County Courthouse in Sundance, Wyoming, on Sunday, September 28, 2014, or the evidentiary hearing scheduled to begin on Tuesday, September 30, 2014, at the CAM-PLEX Multi-Event Facilities in Gillette, Wyoming.

This notice does not apply to state or local law enforcement officers responding to a call for assistance from within the Crook County Courthouse or the CAM-PLEX Multi-Event Facilities.

For The Atomic Safety and Licensing Board.
Dated: September 16, 2014, Rockville, Maryland.
G. Paul Bollwerk, III,
Chairman, Administrative Judge.

[FR Doc. 2014-22504 Filed 9-19-14; 8:45 am]

BILLING CODE 7590-01-P